FEDERAL COMMUNICATIONS COMMISSION

47 CFR Part 73

[MB Docket No. 21-155; RM-11900; DA 21-436; FR ID 22597]

Television Broadcasting Services Medford, Oregon

AGENCY: Federal Communications Commission.

ACTION: Proposed rule.

SUMMARY: The Commission has before it a petition for rulemaking filed by KTVL Licensee, LLC (Petitioner), the licensee of KTVL (CBS), channel 10, Medford, Oregon. The Petitioner requests the substitution of channel 16 for channel 10 at Medford, Oregon in the DTV Table of Allotments.

DATES: Comments must be filed on or before June 11, 2021 and reply comments on or before June 28, 2021.

ADDRESSES: Federal Communications Commission, Office of the Secretary, 45 L Street NE, Washington, DC 20554. In addition to filing comments with the FCC, interested parties should serve counsel for the Petitioner as follows: Paul A. Cicelski, Esq., Lerman Senter, PLLC, 2001 L Street NW, Washington, DC 20036.

FOR FURTHER INFORMATION CONTACT: Andrew Manley, Media Bureau, at (202) 418-0596; or Andrew Manley, Media Bureau, at Andrew Manley@fcc.gov.

SUPPLEMENTARY INFORMATION: In support of its channel substitution request, the Petitioner states that the reception of VHF signals require larger antennas relative to UHF channels, and that studies suggest a large variability in indoor antennas, with most receiving fairly well at UHF and the substantial majority not so well to very poor for high-VHF channels. Petitioner further states that KTVL has received numerous complaints from viewers unable to receive that Station's over-the-air signal, despite being able to receive signals from other stations. In its Amended Engineering Exhibit, the Petitioner demonstrated that while the proposed channel 16 noise limited contour does not completely encompass the channel 10 noise limited contour, there are three other CBS affiliated stations that serve all but 9,355 persons in the noise limited contour loss area. The Petitioner also submitted an analysis, using the Commission's TVStudy software analysis program, demonstrating that after taking into account service provided by other CBS stations, all of the population located within KTVL's channel 10 noise limited contour will continue to receive CBS service, resulting in no loss of network service.

This is a synopsis of the Commission's Notice of Proposed Rulemaking, MB Docket No. 21-155; RM-11900; DA 21-436, adopted April 16, 2021, and released April 16, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. In § 73.622 in paragraph (i), amend the Post-Transition Table of DTV Allotments under Oregon by revising the entry for Medford to read as follows:

§ 73.622 Digital television table of allotments.

* * * * *

(i) * * *

Community | Channel No.
* * * * *
Oregon
* * * * *
Medford | 5, * 8, 12, 16, 26
* * * * *

[FR Doc. 2021-10062 Filed 5-11-21; 8:45 am]

BILLING CODE 6712-01-P